DEPARTMENT OF ENERGY

Federal Energy Regulatory Commission

[Docket No. RP02-361-011]

Gulfstream Natural Gas System, L.L.C.; Notice of Compliance Filing

July 24, 2003.

Take notice that on July 21, 2003, Gulfstream Natural Gas System, L.L.C. (Gulfstream) tendered for filing as part of its FERC Gas Tariff, Original Volume No. 1, the following tariff sheets:

Fourth Revised Sheet No. 8

Original Sheet No. 8.01

Original Sheet No. 8I

Original Sheet No. 8J

Fourth Revised Sheet No. 8 and Original Sheet No. 8.01 reflect an effective date of December 1, 2002. Original Sheet Nos. 8I and 8J reflect an effective date of July 16, 2003.

Gulfstream states that it is making this filing in compliance with the Commission's June 9, 2003 order, 103 FERC § 61,312. Gulfstream states that the tariff sheets filed herewith implement three of the negotiated rates approved by the June 9, 2003 order.

Gulfstream states that copies of its filing have been mailed to all affected customers and interested state commissions, as well as parties on the Official Service List compiled by the Secretary in this proceeding.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: August 4, 2003.

Magalie R. Salas,
Secretary.

[FR Doc. 03-19394 Filed 7-30-03; 8:45 am]

BILLING CODE 6717-01-P